DEPARTMENT OF HOMELAND SECURITY

Coast Guard

[USCG-2004-18883]

Discussion of Maritime Information Sharing and Sector Coordinating Entity

AGENCY: Coast Guard, DHS.

ACTION: Notice of meeting.

SUMMARY: The United States Coast Guard will meet on September 1, 2004 with members of the maritime industry, Department of Homeland Security representatives and representatives from other government agencies. The purpose of the meeting is to discuss the information sharing mechanisms used to allow the federal government and the diverse members of the maritime industry to share threat information and the need for a maritime sector coordinating entity. The meeting will be open to the public.

DATES: The meeting will be held on September 1, 2004, from 9 a.m. to Noon. The meeting may close early if all business is finished. Written material and requests to make oral presentations should reach the Coast Guard on or before August 30, 2004. Requests to have a copy of your material distributed to the attending Coast Guard representatives should reach the Coast Guard on or before August 27, 2004.

ADDRESSES: The meeting will be held in room 2230, U.S. Department of Transportation, 400 7th Street SW., Washington, DC. Submit any written materials you wish to be distributed at the meeting and any requests to make oral presentations to LT Kenneth Washington, Commandant (G-MPP-2), U.S. Coast Guard Headquarters, 2100 Second Street SW., Washington, DC 20593-0001. This notice is available on the Internet at http://dms.dot.gov.

FOR FURTHER INFORMATION CONTACT: LT Kenneth Washington at 202-267-0029 or LCDR Tuan Thomson at 202-267-6166, fax 202-267-1285.

SUPPLEMENTARY INFORMATION: Background: At the meeting, we intend to layout the need and requirements for an information sharing mechanism, discuss planned improvements, and allow an opportunity for attendees to offer their individual opinions on how to best operate an information sharing mechanism for the maritime industry.

Additionally, we will discuss the need for a national maritime sector coordinating entity to represent the concerns of industry.

Acronym List

FOUO—For Official Use Only

HSIN—Homeland Security Information Network

HSPD 7—Homeland Security Presidential Directive 7

IAIP (ICD)—Information Analysis and Infrastructure Protection Directorate, Information Coordination Division

ISAC—Information Sharing and Analysis Center

JRIES—Joint Regional Information Exchange System

PCII—Protected Critical Infrastructure Information

PDD 63—Presidential Decision Directive 63

USCG—US Coast Guard

SSI—Sensitive Security Information

Agenda of Meeting

The agenda includes the following:

(1) Welcome/Administrative Procedures.

(2) Opening Remarks (Coast Guard's role overview)/IAIP (ICD) Overview.

(3) Introductions.

(4) Current Maritime sector info sharing process.

(a) Memorandum Of Understanding between the National Infrastructure Protection Center, National Response Center and U.S. Coast Guard.

(b) Threat product development (IAIP).

(c) Current CG system for threat product distribution.

(i) History since 9/11/01.

(ii) Direct dissemination to associations: to Company, Vessel, and Facility Security Officers via Federal Maritime Security Coordinator and Area Maritime Security Committees.

(iii) FOUO and SSI Products / SSI material designation/handling.

(iv) Classified products.

(v) Clearances for industry.

(d) Suspicious Activity Reporting.

(5) Proposed Sector Coordinating Entity.

(a) Functions of entity.

(b) Membership and leadership of entity.

(c) Development of improved communication JRIES/HSIN.

(d) HSIN implementation update / PCII.

(e) Attendees comments; open discussion on future industry meeting to establish entity.

Optional agenda items, time permitting:

(6) National Maritime Security Plan Timeline. Security Access: If you have the proper security badge to enter the Department of Transportation building you may proceed to the Northwest Entrance which is on your right side when arriving at the top of the escalator exit from the Metro. If you do not have the required security badge please proceed to the Southwest Lobby entrance which is where the sign-in and security entrance is located. Non-government employees will be required to have an escort. Please ensure to notify the persons noted in FOR FURTHER INFORMATION CONTACT if you require an escort, and we will make arrangements to meet you.

Procedural: The meeting is open to the public. Please note that the meeting may close early if all business is finished. At the Chair's discretion, members of the public may make oral presentations during the meeting.

If you would like to make an oral presentation at the meeting, please notify LT Kenneth Washington no later than August 30, 2004. Written material for distribution at the meeting should reach the Coast Guard no later than August 27, 2004. If you would like a copy of your material distributed to each member of the committee in advance of the meeting, please submit copies to LT Kenneth Washington no later than August 30, 2004.

Information on Services for Individuals With Disabilities

For information on facilities or services for individuals with disabilities or to request special assistance at the meeting, contact Mr. Jack Sheckells as soon as possible at 202-366-1467.

Dated: August 11, 2004.
L.L. Hareth,
Rear Admiral, U.S. Coast Guard, Director of Port Security.

[FR Doc. 04-18800 Filed 8-16-04; 8:45 am]

BILLING CODE 4910-15-P